DEPARTMENT OF JUSTICE

Notice of Lodging Proposed Consent Decree

In accordance with Departmental Policy, 28 CFR 50.7, notice is hereby given that a proposed consent decree in United States v. Gillette, Civ. No. 3: CV-96-1200 (M.D. Pa.), was lodged with the United States District Court for the Middle District of Pennsylvania on February 9, 2001. This proposed Consent Decree concerns a complaint filed by the United States of America against Robert Gillette, pursuant to section 309(b) and (d) of the Clean Water Act, 33 U.S.C. 1319 (b) and (d), to obtain injunctive relief from and impose civil penalties against the Defendant for unlawfully discharging and/or filling approximately 1.6 acres of wetlands adjacent to an unnamed tributary of Van Auken Creek, in Waymart Borough, Wayne County, Pennsylvania.

The proposed Consent Decree requires the Defendant to pay a civil penalty for his unauthorized discharges. Under the proposed Consent Decree, the Defendant shall also undertake a supplemental environmental project (“SEP”) consisting of the conservation and management of wetlands in Tobyhanna Township, Monroe County, Pennsylvania. The proposed Consent Decree permanently enjoins the Defendant, or any successor of the Defendant, from discharging pollutants into any water of the United States at the Site, except in compliance any permits required to be obtained by federal, state and local laws, rules or regulations.

The Department of Justice will accept written comments relating to this proposed Consent Decree for thirty (30) days from the date of publication of this notice. Please address comments to the Acting Assistant Attorney General, Environment and Natural Resources Division, Department of Justice, Attention: Joshua M. Levin, P.O. Box 23986, Washington, DC 20026-3986 and should refer to United States v. Gillette, DJ Reference No. 90-5-1-6-596.

The proposed Consent Decree may be examined at the Clerk's Office, United States District Court for the Middle District of Pennsylvania, 228 Walnut Street, Harrisburg, PA 17108. In addition, the proposed Consent Decree may be viewed on the World Wide Web at http://www.usdoj.gov/enrd/enrd-home.html.

Scott A. Schachter,
Assistant Chief, Environmental Defense Section, Environment & Natural Resources Division.

[FR Doc. 01-4514 Filed 2-22-01; 8:45 am]

BILLING CODE 4410-15-M